DEPARTMENT OF AGRICULTURE

Submission for OMB Review; Comment Request

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: Technical & Supervisory Assistance Grants.

OMB Control Number: 0575-0188.

Summary of Collection: Section 525(a) of title V of the Housing Act of 1949 implemented through 7 CFR part 1944, subpart K, gives authorization to the Rural Housing Service (RHS) to make grants to enter into contracts with eligible organizations, “to pay part or all of the cost of developing, conducting, administering or coordinating comprehensive programs of technical and supervisory assistance which will aid needy low-income individuals and families in benefiting from Federal, state, and local housing programs in rural areas.”

Need and Use of the Information: RHS staff in its local, State and National offices will collect information from applicants to determine eligibility for a grant, project feasibility, and to monitor performance after grants have been awarded. Failure to collect this information could result in waste and improper use of Federal funds.

Description of Respondents: Not for profit institutions.

Number of Respondents: 30.

Frequency of Responses: Reporting: Quarterly.

Total Burden Hours: 665.

Charlene Parker,
Departmental Information Collection Clearance Officer.

[FR Doc. 2011-702 Filed 1-13-11; 8:45 am]

BILLING CODE 3410-XT-P